DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of one individual and two entities whose property and interests in property have been blocked pursuant to the Foreign Narcotics Kingpin Designation Act (“Kingpin Act”) (21 U.S.C. 1901-1908, 8 U.S.C. 1182). In addition, OFAC is publishing additions to the identifying information associated with one individual and one entity previously designated pursuant to the Kingpin Act.

DATES: The designation by the Director of OFAC of the one individual and two entities identified in this notice pursuant to section 805(b) of the Kingpin Act is effective on April 28, 2011.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treasury.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of foreign persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On April 28, 2011, the Director of OFAC designated one individual and two entities whose property and interests in property are blocked pursuant to section 805(b) of the Foreign Narcotics Kingpin Designation Act.

The list of additional designees is as follows:

Individual

1. LLANOS GAZIA, Jorge Luis (a.k.a. LLANOS GAZZIA, Jorge Luis), c/o AUDIO ALARMAS, S.A. DE C.V., Zapopan, Jalisco, Mexico; c/o BASALTOS TONALA, S.A. DE C.V., Tonala, Jalisco, Mexico; Asuncion No. 747 Int. 702, Providencia, Guadalajara, Jalisco C.P. 44630, Mexico; Avenida Lomas del Bosque No. 2700-42, Zapopan, Jalisco, Mexico; Calle Palmas No. 42, Colonia Lomas del Bosque, Zapopan, Jalisco C.P. 45110, Mexico; Jamundi, Colombia; DOB 20 Jun 1957; POB Cali, Colombia; C.U.R.P. LAGJ570620HNELZR00 (Mexico); Cedula No. 16446807 (Colombia); Credencial electoral LLGZJR57062088H900 (Mexico); R.F.C. LAGJ570620KV4 (Mexico); citizen Colombia; alt. citizen Mexico; nationality Italy (individual) [SDNTK]

Entities

1. AUDIO ALARMAS, S.A. DE C.V., Calle Paseo de los Tilos No. 1344, Colonia Tabachines, Zapopan, Jalisco C.P. 45188, Mexico; Paseo de los Tilos No. 1344 A, Col. Rancho Blanco, Guadalajara, Jalisco C.P. 44890, Mexico; Folio Mercantil No. 10987-1 (Mexico); R.F.C. AAL9802259P1 (Mexico) [SDNTK]

2. BASALTOS TONALA, S.A. DE C.V., Camino a Colimilla Km. 6, Colonia San Gaspar, Tonala, Jalisco C.P. 45404, Mexico; Zona Metropolitana, Guadalajara, Jalisco, Mexico; Folio Mercantil No. 24808 (Mexico); R.F.C. BTO041104AH2 (Mexico) [SDNTK]

In addition, OFAC has made additions to the identifying information associated with the following individual and entity previously designated pursuant to the Kingpin Act:

1. REYES GARZA, Agustin (a.k.a. “DON PILO”), c/o ESTETIC CARR DE OCCIDENTE, S.A. DE C.V., Guadalajara, Mexico; c/o ESTETICA CAR WASH S.A. DE C.V., Zapopan, Jalisco, Mexico; Calle Violetas No. 371, Colonia Las Bodegas, Zapopan, Jalisco, Mexico; DOB 21 Aug 1957; POB Guadalajara, Jalisco, Mexico; (individual) [SDNTK]

2. ESTETIC CARR DE OCCIDENTE, S.A. DE C.V., Zapopan, Jalisco, Mexico; Matricula Mercantil No. 48131-1 (Mexico) issued 08 May 2009; [SDNTK]

The listings for this individual and entity now appear as follows:

1. REYES GARZA, Agustin (a.k.a. “DON PILO”), c/o ESTETIC CARR DE OCCIDENTE, S.A. DE C.V., Guadalajara, Mexico; c/o ESTETICA CAR WASH S.A. DE C.V., Zapopan, Jalisco, Mexico; Calle Comercio No. 50, Colonia Escandon, Delegacion Miguel Hidalgo, Mexico City, Distrito Federal C.P. 11800, Mexico; Calle Milpa No. 87, Colonia El Vigia, Zapopan, Jalisco C.P. 45100, Mexico; Calle Persianas No. 204, Colonia Pensador Mexicano, Delegacion Venustiano Carranza, Mexico City, Distrito Federal C.P. 15510, Mexico; Calle Violetas No. 371, Colonia Las Bodegas, Zapopan, Jalisco, Mexico; DOB 21 Aug 1957; POB Guadalajara, Jalisco, Mexico; alt. POB Tamaulipas, Mexico; R.F.C. REGA570821RCA (Mexico) (individual) [SDNTK]

2. ESTETIC CARR DE OCCIDENTE, S.A. DE C.V., Periferico Norte No. 3109, Colonia Tabachines, Zapopan, Jalisco C.P. 45188, Mexico; Matricula Mercantil No. 48131-1 (Mexico) issued 08 May 2009; R.F.C. ECO090403GS9 (Mexico) [SDNTK]

Dated: April 28, 2011.
Adam J. Szubin,
Director, Office of Foreign Assets Control.

[FR Doc. 2011-10779 Filed 5-3-11; 8:45 am]

BILLING CODE 4810-AL-P